DEPARTMENT OF ENERGY

Federal Energy Regulatory Commission

Combined Notice of Filings #1

Take notice that the Commission received the following electric rate filings:

Docket Numbers: ER10-1530-001.

Applicants: Llano Estacado Wind, LLC.

Description: Triennial Updated Market Power Analysis for the Southwest Power Pool, Inc. Region of Llano Estacado Wind, LLC.

Filed Date: 12/31/12.

Accession Number: 20121231-5201.

Comments Due: 5 p.m. ET 3/1/13.

Docket Numbers: ER10-2331-013; ER10-2343-013; ER10-2319-012; ER10-2320-012; ER10-2317-011; ER10-2322-013; ER10-2324-012; ER10-2325-011; ER10-2332-012; ER10-2326-013; ER10-2327-014; ER10-2328-012; ER11-4609-011; ER10-2330-013.

Applicants: J.P. Morgan Ventures Energy Corporation, J.P. Morgan Commodities Canada Corporation, BE Alabama LLC, BE Allegheny LLC, BE CA LLC, BE Ironwood LLC, BE KJ LLC, BE Louisiana LLC, BE Rayle LLC, Cedar Brakes I, L.L.C., Cedar Brakes II, L.L.C., Triton Power Michigan LLC, Utility Contract Funding, L.L.C., Central Power & Lime LLC.

Description: Updated Market Power Analysis and Order 697 Compliance Filing for the Southwest Power Pool, Inc. Region of J.P. Morgan Ventures Energy Corporation.

Filed Date: 12/31/12.

Accession Number: 20121231-5204.

Comments Due: 5 p.m. ET 3/1/13.

Docket Numbers: ER11-2211-002; ER11-2209-002; ER11-2210-002; ER11-2207-002; ER11-2206-002; ER11-2843-001; ER10-3244-001.

Applicants: Alta Wind I, LLC, Alta Wind II, LLC, Alta Wind III, LLC, Alta Wind IV, LLC, Alta Wind V, LLC, Oak Creek Wind Power, LLC, Coso Geothermal Power Holdings, LLC.

Description: Updated Market Power Analysis for the Southwest Power Pool, Inc. Region of Alta Wind I, LLC, et al.

Filed Date: 12/31/12.

Accession Number: 20121231-5183.

Comments Due: 5 p.m. ET 3/1/13.

Docket Numbers: ER11-3777-001; ER10-2042-009; ER10-1938-004; ER10-1937-002; ER10-1898-003; ER10-1934-003; ER10-1893-003; ER10-1867-002; ER10-1862-003.

Applicants: Calpine Oneta Power, LLC, Calpine Energy Services, L.P., Calpine Power America—CA, LLC, Calpine Power America—OR, LLC, CES Marketing V, L.P., CES Marketing IX, LLC, CES Marketing X, LLC, Power Contract Financing, L.L.C., PCF2, LLC.

Description: Updated Market Power Analysis of Calpine Oneta Power, LLC, et al. for the Southwest Power Pool, Inc. Region.

Filed Date: 12/31/12.

Accession Number: 20121231-5197.

Comments Due: 5 p.m. ET 3/1/13.

Docket Numbers: ER11-4055-002; ER12-1566-002; ER12-1470-002; ER10-2977-002; ER11-3987-003; ER10-1290-003; ER10-2814-002; ER10-3026-002.

Applicants: Copper Mountain Solar 1, LLC, Copper Mountain Solar 2, LLC, Energia Sierra Juarez U.S., LLC, Mesquite Power, LLC, Mesquite Solar 1, LLC, San Diego Gas & Electric Company, Sempra Generation, Termoelectrica U.S. LLC.

Description: Triennial Updated Market Power Analysis for the Southwest Power Pool, Inc. Region of Copper Mountain Solar 1, LLC, et. al.

Filed Date: 12/31/12.

Accession Number: 20121231-5192.

Comments Due: 5 p.m. ET 3/1/13.

Docket Numbers: ER13-683-000.

Applicants: WSPP Inc.

Description: Revisions to the WSPP Agreement List of Members to be effective 12/31/2012.

Filed Date: 12/31/12.

Accession Number: 20121231-5155.

Comments Due: 5 p.m. ET 1/22/13.

Docket Numbers: ER13-684-000.

Applicants: NV Energy, Inc.

Description: OATT Revisions to Schedule 04—Energy Imbalance to be effective 3/1/2013.

Filed Date: 12/31/12.

Accession Number: 20121231-5158.

Comments Due: 5 p.m. ET 1/22/13.

Docket Numbers: ER13-685-000.

Applicants: Public Service Company of New Mexico.

Description: PNM Notice of Transmission Rate Change—Part 1 of 3 to be effective 3/2/2012.

Filed Date: 12/31/12.

Accession Number: 20121231-5159.

Comments Due: 5 p.m. ET 1/22/13.

Docket Numbers: ER13-686-000.

Applicants: Entergy Arkansas, Inc.

Description: Chisholm-SoCo A1 PtP Transfer Agreement to be effective 1/1/2013.

Filed Date: 12/31/12.

Accession Number: 20121231-5160.

Comments Due: 5 p.m. ET 1/22/13.

Docket Numbers: ER13-687-000.

Applicants: Public Service Company of New Mexico.

Description: PNM Notice of Transmission Rate Change—Part 3 of 3 to be effective 3/2/2013.

Filed Date: 12/31/12.

Accession Number: 20121231-5161.

Comments Due: 5 p.m. ET 1/22/13.

Docket Numbers: ER13-688-000.

Applicants: New England Power Pool Participants Committee.

Description: Jan 2013 Membership Filing to be effective 1/1/2013.

Filed Date: 12/31/12.

Accession Number: 20121231-5162.

Comments Due: 5 p.m. ET 1/22/13.

Docket Numbers: ER13-689-000.

Applicants: Avista Corporation.

Description: Avista—BPA Parallel Operation Agreement RS T-1110 to be effective 1/2/2013.

Filed Date: 12/31/12.

Accession Number: 20121231-5164.

Comments Due: 5 p.m. ET 1/22/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 2, 2013.
Nathaniel J. Davis, Sr.,
Deputy Secretary.

[FR Doc. 2013-00400 Filed 1-10-13; 8:45 am]

BILLING CODE 6717-01-P